FEDERAL MARITIME COMMISSION

[DOCKET NO. 23-09]

Hubbell Incorporated and HUBS, Inc., Complainants v. DSV Air & Sea, Inc. and DSV Ocean Transport A/S, Respondents; Notice of Filing of Complaint and Assignment

Notice is given that a complaint has been filed with the Federal Maritime Commission (“Commission”) by Hubbell Incorporated and HUBS, Inc. (the “Complainants”) against DSV Air & Sea, Inc. and DSV Ocean Transport A/S (collectively, the “Respondents”). Complainants state that the Commission has subject-matter jurisdiction over the complaint under the Shipping Act of 1984, as amended, 46 U.S.C. 40101 et seq. (the “Shipping Act”) and personal jurisdiction over the Respondents as regulated and registered Non-Vessel-Operating Common Carriers (“NVOCC”).

Complainant Hubbell Incorporated is a Connecticut corporation with its corporate headquarters in Shelton, Connecticut.

Complainant HUBS, Inc. is a Delaware corporation with a principal place of business in Shelton, Connecticut.

Complainants identify Respondent DSV Air & Sea, Inc. as an entity organized under the laws of the state of Delaware with a principal place of business in Iselin, New Jersey. Complainants identify Respondent DSV Ocean Transport A/S as a foreign entity with an address in Denmark. Complainants state Respondents hold themselves out as part of a global transport and logistics company.

Complainants allege that Respondents violated 46 U.S.C. 41104(a)(2), 41102(c), 41102(a)(3), and 41104(d)(2)(B) and 46 CFR 531.6(c) regarding service not in accordance with the terms of an NVOCC Service Arrangement (“NSA”), unjust and unreasonable practices in handling property, and retaliation and other unfair or unjustly discriminatory methods for any other reason. Complainants allege these violations arose from a failure to comply with the termination, rate, and billing terms of negotiated NSAs; an attempt to make material changes to the NSAs; an overcharge of freight, demurrage and detention, and accessorial charges; and a complaint filed in Delaware federal court.

An answer to the complaint must be filed with the Commission within twenty-five (25) days after the date of service.

The full text of the complaint can be found in the Commission's electronic Reading Room at https://www2.fmc.gov/readingroom/proceeding/23-09/. This proceeding has been assigned to the Office of Administrative Law Judges. The initial decision of the presiding judge shall be issued by August 28, 2024, and the final decision of the Commission shall be issued by March 12, 2025.

Served: August 28, 2023.
Carl Savoy,
Federal Register Alternate Liaison Officer, Federal Maritime Commission.

[FR Doc. 2023-18902 Filed 8-31-23; 8:45 am]

BILLING CODE 6730-02-P